NATIONAL AERONAUTICS AND SPACE ADMINISTRATION

[Notice: (11-067)]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council.

DATES: Tuesday, August 2, 2011, 8:30 a.m. to 2:45 p.m., Local Time.

ADDRESSES: NASA Ames Research Center, Building 3, NASA Ames Conference Center Northwing Room, 500 Severyns Road, Moffett Field, CA 94035.

FOR FURTHER INFORMATION CONTACT: This meeting will also take place telephonically and via WebEx. Any interested person should contact Ms. Erika G. Vick, Executive Secretary for the Education and Public Outreach Committee, National Aeronautics and Space Administration, Washington, DC, at Erika.vick-1@nasa.gov, no later than 4 p.m., local time, July 29, 2011, to get further information about participating via teleconference and/or WebEx.

SUPPLEMENTARY INFORMATION: The agenda for the meeting includes the following topics:

• Science in NASA's New Education and Public Outreach Framework (Education and Public Outreach Committee/Science Committee Joint Meeting from 11 a.m.-12:30 p.m., Local Time. Please see signs for location.).

• NASA Ames Education Programs.

• NASA Ames Public Outreach Programs.

It is imperative that the meeting be held on these dates to accommodate the scheduling priorities of the key participants. Attendees will be requested to sign a register and to comply with NASA security requirements, including the presentation of a valid picture ID to Security before access to the NASA Ames Research Center. Foreign nationals attending this meeting will be required to provide a copy of their passport, visa, or resident alien card in addition to providing the following information no less than 10 working days prior to the meeting: full name; gender; date/place of birth; citizenship; visa/green card information (number, type, expiration date); passport information (number, country, expiration date); employer/affiliation information (name of institution, address, country, telephone); title/position of attendee; home address; driver's license number and state of issue; and Social Security number to Erika Vick via e-mail at erika.vick-1@nasa.gov or by fax at (202) 358-4332.

Dated: July 11, 2011.
P. Diane Rausch,
Advisory Committee Management Officer, National Aeronautics and Space Administration.

[FR Doc. 2011-17915 Filed 7-14-11; 8:45 am]

BILLING CODE